GENERAL SERVICES ADMINISTRATION

[OMB Control No. 3090-0302; Docket No. 2022-0001; Sequence No. 3]

Submission for OMB Review; General Services Administration Acquisition Regulation; Modifications (Federal Supply Schedule) 552.238-82

AGENCY: Office of Acquisition Policy, General Services Administration (GSA).

ACTION: Notice of request for public comments regarding an extension to an existing OMB clearance.

SUMMARY: Under the provisions of the Paperwork Reduction Act, the Regulatory Secretariat Division will be submitting to the Office of Management and Budget (OMB) a request to review and approve an extension to the information collection requirement regarding the Modifications (Federal Supply Schedule) clause.

DATES: Submit comments on or before July 15, 2022.

ADDRESSES: Written comments and recommendations for this information collection should be sent within 30 days of publication of this notice to www.reginfo.gov/public/do/PRAMain. Find this particular information collection by selecting “Currently under Review—Open for Public Comments” or by using the search function.

FOR FURTHER INFORMATION CONTACT: Mr. Thomas O'Linn, Procurement Analyst, General Services Acquisition Policy Division, GSA, 202-445-0390 or email gsarpolicy@gsa.gov.

SUPPLEMENTARY INFORMATION:

A. Purpose

The General Services Administration Acquisition Regulation (GSAR) clause 552.238-82, Modifications (Federal Supply Schedule), which was previously titled and numbered as 552.238-81 Modifications (see 84 FR 17030 dated April 23, 2019), requires Contractors who have a GSA Federal Supply Schedule (FSS) contract to request a contract modification by submitting information to the contracting officer. The clause covers the following types of contract modification requests: additional items/additional SINs, deletions, and price reductions. At a minimum, each contract modification request covered by this clause is to include an explanation for the request and supporting information.

B. Annual Reporting Burden

Respondents: 14,200.

Responses per Respondent: 1.

Total Responses: 14,200.

Hours per Response: 3.5.

Total Burden Hours: 49,700.

C. Public Comments

A 60-day notice published in the Federal Register at 87 FR 19936 on April 6, 2022. No comments were received.

Obtaining Copies of Proposals: Requesters may obtain a copy of the information collection documents from the GSA Regulatory Secretariat Division, by calling 202-501-4755 or emailing GSARegSec@gsa.gov. Please cite OMB Control No. 3090-0302, “Modifications (Federal Supply Schedule)” in all correspondence.

Jeffrey A. Koses,
Senior Procurement Executive, Office of Acquisition Policy, Office of Government-wide Policy.

[FR Doc. 2022-12887 Filed 6-14-22; 8:45 am]

BILLING CODE 6820-61-P